DEPARTMENT OF COMMERCE

International Trade Administration

[A-570-900, A-580-855]

Notice of Request for Information and Extension of the Deadline for Determining the Adequacy of the Petitions for: Diamond Sawblades and Parts Thereof From the People's Republic of China and the Republic of Korea

AGENCY: Import Administration, International Trade Administration, Department of Commerce.

EFFECTIVE DATE: May 23, 2005.

FOR FURTHER INFORMATION CONTACT: Import Administration, International Trade Administration, U.S. Department of Commerce, 14th Street and Constitution Avenue, NW., Washington, DC 20230. Inquiries regarding any information on this notice may be addressed by calling Mark Manning at 202-482-5253 and via facsimile at 202-482-5871.

The Petitions

On May 3, 2005, the Department of Commerce (Department) received an antidumping duty petitions (Petitions) filed on behalf of the Diamond Sawblade Manufacturers' Coalition (DSMC) and its individual members (collectively, petitioners).

Scope of the Petitions

The following language describes the imported merchandise from the People's Republic of China (PRC) and the Republic of Korea (Korea) that petitioners intend to be included in the scope of the investigations:

The products covered by these petitions are all finished circular sawblades, whether slotted or not, with a working part that is comprised of a diamond segment or segments, and parts thereof, regardless of specification or size, except as specifically excluded below.

Within the scope of these petitions are semifinished diamond sawblades, including diamond sawblade cores and diamond sawblade segments. Diamond sawblade cores are circular steel plates, whether or not attached to non-steel plates, with slots. Diamond sawblade cores are manufactured principally, but not exclusively, from alloy steel. A diamond sawblade segment consists of a mixture of diamonds (whether natural or synthetic, and regardless of the quantity of diamonds) and metal powders (including, but not limited to, iron, cobalt, nickel, tungsten carbide) that are formed together into a solid shape (from generally, but not limited to, a heating and pressing process).

Sawblades with diamonds directly attached to the core with a resin or electroplated bond, which thereby do not contain a diamond segment, are not included within the scope of these petitions. Sawblade cores with a thickness of less than 0.025 inches, or with a thickness greater than 1.1 inches, are excluded from the scope of the petitions. Circular steel plates that have a cutting edge of non-diamond material, such as external teeth that protrude from the outer diameter of the plate, whether or not finished, are excluded from the scope of the petitions. Diamond sawblade cores with a Rockwell C hardness of less than 25 are excluded from the scope of the petitions. Diamond segments with diamonds that predominantly have a mesh size number greater than 240 (such as 250 or 260) are excluded from the scope of the petitions.

Merchandise subject to this order is typically imported under heading 8202.39.00.00 of the Harmonized Tariff Schedule of the United States (HTSUS). When packaged together as a set for retail sale with an item that is separately classified under headings 8202 to 8205 of the HTSUS, diamond sawblades or parts thereof may be imported under heading 8206.00.00.00 of the HTSUS. The tariff classification is provided for convenience and customs purposes; however, the written description of the scope of the investigation is dispositive.

Petitioners request that the Department and the International Trade Commission (Commission) treat diamond sawblades, diamond sawblade segments, and diamond sawblade cores as one “domestic like product” and, similarly, one “class or kind” of merchandise for purposes of these investigations.

Domestic Like Product

Section 771(10) of the Tariff Act of 1930, as amended (the Act), defines the domestic like product as “a product which is like, or in the absence of like, most similar in characteristics and uses with the article subject to investigation.” Thus, the reference point from which the domestic like product analysis begins is “the article subject to investigation,” i.e., the class or kind of merchandise to be investigated, which normally will be the scope as defined in the petitions.

Determination of Industry Support for the Petitions

Section 732(b)(1) of the Act requires that a petition be filed on behalf of the domestic industry. Section 732(c)(4)(A) of the Act provides that the Department's industry support determination be based on whether a minimum percentage of the relevant industry supports the petition. A petition meets this requirement if the domestic producers or workers who support the petition account for: (i) At least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, the Department shall: (i) poll the industry or rely on other information in order to determine if there is support for the petition, as required by subparagraph (A), or (ii) determine industry support using a statistically valid sampling method to poll the industry.

Request for Information

Because the Petitions have not established that domestic producers or workers accounting for more than 50 percent of the total production of the domestic like product support the petition, we must “poll or otherwise determine industry support for the petition by the industry.” See section 732(c)(4)(D) of the Act.

In accordance with section 732(c)(4)(D) of the Act and in order to determine whether the Petitions establish support of domestic producers or workers accounting for more than 50 percent of the total production of the domestic like product, we are hereby requesting that all domestic producers/manufacturers of diamond sawblades and parts thereof submit to the Department a response to the questions on Import Administration's Web site: http://ia.ita.doc.gov.

Filing Requirements

Given the very short period in which we must determine industry support, the number of potential responses, and the fact that industry support may not be re-examined after initiation, we are waiving the filing requirements set forth in 19 CFR 351.303 for certain parties submitting information on industry support. This waiver of the filing requirements will not apply to: (1) the submission of documents that are not in response to the information requested in this notice or (2) parties that are familiar with the conduct of antidumping and countervailing proceedings through prior involvement in such proceedings (e.g., parties represented by law firms that are involved in other antidumping/countervailing cases).

This limited waiver is applicable only until May 25, 2005, the deadline for submitting the information requested in this notice. This waiver is intended to expedite the receipt of information that is essential to our analysis of industry support by providing information on the production of the domestic like product by petitioning and non-petitioning companies. By avoiding delays in the receipt of such information, we will have more time to analyze whether the statutory requirements concerning industry support for the above-referenced petitions have been met.

All parties submitting any information must include the following statement in their response: “I, (name and title), currently employed by (person), certify that (1) I have read the attached submission, and (2) based on the information made available to me by (person), I have no reason to believe that this submission contains any material misrepresentation or omission of fact.” All information received by the Department will be treated as business proprietary information as outlined in our regulations (19 CFR 351.304-306), unless otherwise noted. Please note that all company names will be treated as public information. In addition, note that all business proprietary documents received by the Department in response to this notice will be served to those individuals with access to business proprietary information under the Administrative Protective Order (APO). All public documents may be made available to those parties on the public service list. The APO service lists and the public service lists are available on Import Administration's Web site: http://ia.ita.doc.gov.

Information submitted to the Department in response to this notice should be addressed to Carrie Blozy and faxed to the following number: 202-482-5871. Furthermore, all such information will be placed on the official record of the proceeding. Responses to this notice are due no later than May 25, 2005. Responses after this date may not be reviewed by the Department and, therefore, not included in the analysis.

Extension of Time

Section 732(c)(1)(A)(ii) of the Act provides that within 20 days of the filing of an antidumping duty petition, the Department will determine, inter alia, whether the petition has been filed by or on behalf of the U.S. industry producing the domestic like product. Section 732(c)(1)(B) of the Act provides that the deadline for the initiation determination can be extended by 20 days in any case in which the Department must “poll or otherwise determine support for the petition by the industry * * *.”

We will require additional information from the petitioners and the domestic producers of diamond sawblades and parts thereof in order to make our determination regarding industry support. We will also need additional time to analyze the petitioners' responses to our requests for information. See the “Determination of Industry Support for the Petitions” section of this notice, above. Therefore, it is necessary to extend the deadline determining the adequacy of the petitions for a period not to exceed 40 days from the filing of the petitions. As a result, the initiation determination is due no later than June 13, 2005, which is the next business day after 20 days from the original deadline for the initiation determination.

International Trade Commission Notification

Because the Department has extended the deadline of the initiation determination, the Department will contact the Commission and will make this extension notice available to the Commission.

Dated: May 18, 2005.
Joseph A. Spetrini,
Acting Assistant Secretary for Import Administration.

[FR Doc. 05-10309 Filed 5-20-05; 8:45 am]

BILLING CODE 3510-DS-P